DEPARTMENT OF TRANSPORTATION

Federal Aviation Administration

14 CFR Part 39

[Docket No. FAA-2021-0782; Project Identifier MCAI-2021-00915-A; Amendment 39-21732; AD 2021-19-14]

RIN 2120-AA64

Airworthiness Directives; AERO Sp. z o.o. Airplanes

AGENCY: Federal Aviation Administration (FAA), DOT.

ACTION: Final rule; request for comments.

SUMMARY: The FAA is adopting a new airworthiness directive (AD) for AERO Sp. z o.o. (AERO) Model AT-3R100 airplanes with an ELPROP 3-1-1P propeller. This AD results from mandatory continuing airworthiness information (MCAI) issued by the aviation authority of another country to identify and correct an unsafe condition on an aviation product. The MCAI identifies the unsafe condition as cracks in the propeller hub. The FAA is issuing this AD to address the unsafe condition on these products.

DATES: This AD is effective October 27, 2021.

The Director of the Federal Register approved the incorporation by reference of certain publications listed in this AD as of October 27, 2021.

The FAA must receive comments on this AD by November 22, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact AERO AT Sp. z o.o., Dział Serwisu, ul. Wał Miedzeszyński 844, 03-942 Warszawa, Poland; phone: +48 22 616 20 87; fax: +48 22 617 85 28; email: service@at-3.com. You may view this service information at the FAA, Airworthiness Products Section, Operational Safety Branch, 901 Locust, Kansas City, MO 64106. For information on the availability of this material at the FAA, call (816) 329-4148. It is also available at https://www.regulations.gov by searching for and locating Docket No. FAA-2021-0782.

Examining the AD Docket

You may examine the AD docket at https://www.regulations.gov by searching for and locating Docket No. FAA-2021-0782; or in person at Docket Operations between 9 a.m. and 5 p.m., Monday through Friday, except Federal holidays. The AD docket contains this final rule, the MCAI, any comments received, and other information. The street address for the Docket Operations is listed above.

FOR FURTHER INFORMATION CONTACT: Doug Rudolph, Aviation Safety Engineer, FAA, General Aviation & Rotorcraft Section, International Validation Branch, 901 Locust, Room 301, Kansas City, MO 64106; phone: (816) 329-4059; fax: (816) 329-4090; email: doug.rudolph@faa.gov.

SUPPLEMENTARY INFORMATION:

Comments Invited

The FAA invites you to send any written data, views, or arguments about this final rule. Send your comments to an address listed under ADDRESSES. Include “Docket No. FAA-2021-0782 and Project Identifier MCAI-2021-00915-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent Doug Rudolph, Aviation Safety Engineer, FAA, General Aviation & Rotorcraft Section, International Validation Branch, 901 Locust, Room 301, Kansas City, MO 64106. Any commentary that the FAA receives which is not specifically designated as CBI will be placed in the public docket for this rulemaking.

Background

The European Union Aviation Safety Agency (EASA), which is the Technical Agent for the Member States of the European Union, has issued EASA AD 2021-0189-E, dated August 9, 2021 (referred to after this as “the MCAI”), to address an unsafe condition on ELPROP 3-1-1P propellers that are installed on, but not limited to, AERO Models AT-3R100 and AT-4LSA airplanes. The MCAI states:

Occurrences have been reported of finding cracks on the propeller hub during service inspections. Cracks were detected on the propeller hub surface, near the blade attachment bolt holes and in the blade root area.

This condition, if not detected and corrected, could lead to loss of the propeller blade with consequent loss of control of the aeroplane.

To address this unsafe condition, AERO issued [mandatory service bulletin] MSB EPB.01.B to provide inspection instructions for certain propellers, and EASA issued Emergency AD 2009-0134-E to require repetitive detailed visual inspections of those propeller hubs and, depending on findings, replacement.

Since that [EASA] AD was issued, additional occurrences were reported of finding propeller hub cracks. Prompted by these findings, AERO issued MSB EPB.02.B applicable to propellers with s/n 3E.089 and higher.

For the reason described above, this [EASA] AD retains the requirements of EASA Emergency AD 2009-0134-E, which is superseded, and expands the Applicability to all propeller s/n.

You may examine the MCAI in the AD docket at https://www.regulations.gov by searching for and locating Docket No. FAA-2021-0782.

Related Service Information Under 1 CFR Part 51

The FAA reviewed AERO Mandatory Service Bulletin (MSB) EPB.01.B, Issue 1, dated May 14, 2009, which applies to propellers with serial numbers 3E.001 through 3E.088; and AERO MSB EPB.02.B, Issue 1, dated July 20, 2021, which applies to propellers with serial numbers 3E.089 and larger. This service information specifies procedures for inspecting the propeller hub for cracks and contacting the design approval holder for corrective action. This service information is reasonably available because the interested parties have access to it through their normal course of business or by the means identified in ADDRESSES.

FAA's Determination

This product has been approved by the aviation authority of another country, and is approved for operation in the United States. Pursuant to the FAA's bilateral agreement with this State of Design Authority, it has notified the FAA of the unsafe condition described in the MCAI and service information referenced above. The FAA is issuing this AD because it has determined the unsafe condition described previously is likely to exist or develop on other products of the same type design.

AD Requirements

This AD requires accomplishing the actions specified in the service information already described.

Differences Between This AD and the MCAI

The MCAI applies to the Model AT-4LSA airplane, and this AD does not because it does not have an FAA type certificate.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found that the risk to the flying public justifies foregoing notice and comment prior to adoption of this rule because there are no airplanes currently on the U.S. registry and thus, it is unlikely that the FAA will receive any adverse comments or useful information about this AD from U.S. operators. Accordingly, notice and opportunity for prior public comment are unnecessary pursuant to 5 U.S.C. 553(b)(3)(B).

In addition, the FAA finds that good cause exists pursuant to 5 U.S.C. 553(d) for making this amendment effective in less than 30 days, for the same reasons the FAA found good cause to forego notice and comment.

Costs of Compliance

There are currently no affected airplanes on the U.S. registry. In the event an affected airplane becomes a U.S. registered airplane, the following is an estimate of the costs to comply with this AD.

The FAA estimates that it would take .5 work-hour per airplane to comply with the inspection requirement in this AD. The average labor rate is $85 per work-hour. Based on these figures, the FAA estimates the cost of this AD to be $42.50 per airplane, per inspection cycle.

Corrective action if cracks are found would vary significantly from airplane to airplane. Therefore, the FAA is unable to estimate what the cost of corrective action would be per airplane.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-19-14 AERO Sp. z o.o.: Amendment 39-21732; Docket No. FAA-2021-0782; Project Identifier MCAI-2021-00915-A.

(a) Effective Date

This airworthiness directive (AD) is effective October 27, 2021.

(b) Affected ADs

None.

(c) Applicability

This AD applies to AERO Sp. z o.o. Model AT-3R100 airplanes, all serial numbers, certificated in any category, with an ELPROP 3-1-1P propeller installed.

(d) Subject

Joint Aircraft System Component (JASC) Code 6114, Propeller Hub Section.

(e) Unsafe Condition

This AD was prompted by mandatory continuing airworthiness information (MCAI) originated by an aviation authority of another country to identify and correct an unsafe condition on an aviation product. The MCAI identifies the unsafe condition as cracks in the propeller hub. The FAA is issuing this AD to detect and correct cracked propeller hubs, which could lead to loss of the propeller blade with consequent loss of airplane control.

(f) Compliance

Comply with this AD within the compliance times specified, unless already done.

(g) Inspection and Replacement

(1) Before further flight after the effective date of this AD and thereafter at intervals not to exceed 50 hours time-in-service, inspect the propeller hub for cracks in accordance with paragraphs 5.1, 5.2, and 5.4 of the Instructions in AERO Sp. z o.o Mandatory Service Bulletin EPB.01.B, Issue 1, dated May 14, 2009; or AERO Sp. z o.o Mandatory Service Bulletin EPB.02.B, Issue 1, dated July 20, 2021, as applicable to your propeller, except you are not required to contact the manufacturer. If any crack or other discrepancy is found, before further flight, repair using a method approved by the Manager, International Validation Branch, FAA, or the European Union Aviation Safety Agency (EASA).

(2) As of the effective date of this AD, do not install an ELPROP 3-1-1P propeller on any airplane unless the propeller hub has passed the inspection required by paragraph (g)(1) of this AD.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD or email: 9-AVS-AIR-730-AMOC@faa.gov.

(2) Before using any approved AMOC, notify your appropriate principal inspector, or lacking a principal inspector, the manager of the local flight standards district office/certificate holding district office.

(i) Related Information

(1) For more information about this AD, contact Doug Rudolph, Aviation Safety Engineer, FAA, General Aviation & Rotorcraft Section, International Validation Branch, 901 Locust, Room 301, Kansas City, MO 64106; phone: (816) 329-4059; fax: (816) 329-4090; email: doug.rudolph@faa.gov.

(2) Refer to EASA AD 2021-0189-E, dated August 9, 2021, for more information. You may examine the EASA AD in the AD docket at https://www.regulations.gov by searching for and locating Docket No. FAA-2021-0782.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) AERO Sp. z o.o. Mandatory Service Bulletin EPB.01.B, Issue 1, dated May 14, 2009.

(ii) AERO Sp. z o.o. Mandatory Service Bulletin EPB.02.B, Issue 1, dated July 20, 2021.

(3) For service information identified in this AD, contact AERO AT Sp. z o.o., Dział Serwisu, ul. Wał Miedzeszyński 844, 03-942 Warszawa, Poland; phone: +48 22 616 20 87; fax: +48 22 617 85 28; email: service@at-3.com.

(4) You may view this referenced service information at the FAA, Airworthiness Products Section, Operational Safety Branch, 901 Locust, Kansas City, MO 64106. For information on the availability of this material at the FAA, call (816) 329-4148. It is also available at https://www.regulations.gov by searching for and locating Docket No. FAA-2021-0782.

(5) You may view this service information that is incorporated by reference at the National Archives and Records Administration (NARA). For information on the availability of this material at NARA, email: fr.inspection@nara.gov, or go to: https://www.archives.gov/federal-register/cfr/ibr-locations.html.

Issued on September 7, 2021.
Ross Landes,
Deputy Director for Regulatory Operations, Compliance & Airworthiness Division, Aircraft Certification Service.

[FR Doc. 2021-21932 Filed 10-6-21; 8:45 am]

BILLING CODE 4910-13-P